DEPARTMENT OF HOMELAND SECURITY

Coast Guard

33 CFR Part 165

[Docket No. USCG-2017-0537]

Safety Zone; Three Rivers Regatta Fireworks/EQT 4th of July Celebration, Pittsburgh, PA

AGENCY: Coast Guard, DHS.

ACTION: Notice of enforcement of regulation.

SUMMARY: The Coast Guard will enforce a safety zone for the “Three Rivers Regatta Fireworks/EQT 4th of July Celebration” on the Allegheny River, Monongahela River, and Ohio River. The safety zone is necessary to provide for the safety of life and to protect vessels from the hazards associated with the “Three Rivers Regatta Fireworks/EQT 4th of July Celebration” barge fireworks displays. During the enforcement period, entry into the safety zone is prohibited for all vessels not registered with the sponsor as participants or official patrol vessels, unless specifically authorized by the Captain of the Port Marine Safety Unit Pittsburgh (COTP) or a designated representative.

DATES: The regulations in 33 CFR 165.801, Table 1, line 47, will be enforced from 9 p.m. until 10:30 p.m., on July 4, 2017.

FOR FURTHER INFORMATION CONTACT: If you have questions about this notice of enforcement, call or email MST1 Jennifer Haggins, Marine Safety Unit Pittsburgh, U.S. Coast Guard; telephone 412-221-0807, email Jennifer.L.Haggins@uscg.mil.

SUPPLEMENTARY INFORMATION: The Coast Guard will enforce the safety zone for the annual “Three Rivers Regatta Fireworks/EQT 4th of July Celebration” barge fireworks display, listed in the regulations in 33 CFR 165.801, Table 1, Sector Ohio Valley, No. 47 from 9 p.m. until 10:30 p.m., on July 4, 2017. Our Sector Ohio Valley Annual and Recurring Safety Zones, § 165.801, specifies the location of the regulated area for the Ohio River, Mile 0.0-0.5, Alleghany River, Mile 0.0-0.5, and Monongahela River, Mile 0.0-0.5. Entry into the safety zone is prohibited unless authorized by the Captain of the Port Marine Safety Unit Pittsburgh (COTP) or a designated representative. Persons or vessels desiring to enter into or passage through the safety zone must request permission from the COTP or a designated representative. If permission is granted, all persons and vessels shall comply with the instructions of the COTP or designated representative.

This notice of enforcement is issued under authority of 33 CFR 165.801 and 5 U.S.C. 552(a). In addition to this notice of enforcement in the Federal Register, the Coast Guard will provide advance notification of this enforcement period via Local Notice to Mariners and updates via Marine Information Broadcasts.

Dated: June 19, 2017.
L. McClain, Jr.,
Commander, U.S. Coast Guard, Captain of the Port Marine Safety Unit Pittsburgh.

[FR Doc. 2017-13399 Filed 6-26-17; 8:45 am]

BILLING CODE 9110-04-P